DEPARTMENT OF AGRICULTURE

Forest Service

36 CFR Part 242

DEPARTMENT OF THE INTERIOR

Office of the Secretary of the Interior

43 CFR Part 51

[Docket No. FWS-R7-SM-2023-0214; FXFR13350700640-245-FF07J00000]

RIN 1018-BH14

Subsistence Management Regulations for Public Lands in Alaska—2025-26 and 2026-27 Subsistence Taking of Fish and Shellfish Regulations

AGENCY: Forest Service, Agriculture; Office of the Secretary, Interior.

ACTION: Final rule.

SUMMARY: This final rule revises regulations for fish and shellfish seasons, harvest limits, methods, and means related to taking of fish and shellfish for subsistence uses during the 2025-2026 and 2026-2027 regulatory years. The Federal Subsistence Board (hereafter referred to as “the Board”) is on a schedule of completing the process of revising subsistence taking of fish and shellfish regulations in odd-numbered years and subsistence taking of wildlife regulations in even-numbered years; public proposal and review processes take place during the preceding year. The Board also addresses customary and traditional use determinations during the applicable cycle. When final, the resulting rulemaking amends the existing subsistence fish and shellfish taking regulations. This final rule also revises the nonrural determinations, updates the regulations on subsistence taking of wildlife resulting from final Board action on a wildlife proposal to conduct an ANILCA section 804 user prioritization for hunting the Nelchina caribou herd, change Nelchina caribou herd subsistence hunts to “may be announced,” and delegate authority to manage these hunts. Lastly, this rule corrects an error from a recent final rule.

DATES: This rule is effective July 18, 2025.

ADDRESSES: The comments received in response to the proposed rule are available at https://www.regulations.gov in Docket No. FWS-R7-SM-2023-0214. Federal Subsistence Board meeting transcripts are available for review on the Office of Subsistence Management website (https://www.doi.gov/subsistence); and at https://www.regulations.gov in Docket No. FWS-R7-SM-2023-0214.

FOR FURTHER INFORMATION CONTACT: Chair, Federal Subsistence Board, c/o Office of Subsistence Management, Attention: Crystal Leonetti, Director, Office of Subsistence Management; (907) 786-3888 or subsistence@ios.doi.gov. For questions specific to National Forest System lands, contact Gregory Risdahl, Regional Subsistence Program Leader, USDA, Forest Service, Alaska Region; (907) 302-7354 or gregory.risdahl@usda.gov.

SUPPLEMENTARY INFORMATION:

Background

Under title VIII of the Alaska National Interest Lands Conservation Act (ANILCA) (16 U.S.C. 3111-3126), the Secretary of the Interior and the Secretary of Agriculture (hereafter referred to as “the Secretaries”) jointly implement the Federal Subsistence Management Program (hereafter referred to as “the Program”). The Program provides a preference for take of fish and wildlife resources for subsistence uses on Federal public lands and waters in Alaska. Only Alaska residents of areas identified as rural are eligible to participate in the Program. The Secretaries published temporary regulations to carry out the Program in the Federal Register on June 29, 1990 (55 FR 27114), and final regulations on May 29, 1992 (57 FR 22940). Program officials have subsequently amended these regulations many times.

Because the Program is a joint effort between the Departments of the Interior and Agriculture, identical regulations are located in two titles of the Code of Federal Regulations (CFR). The Department of Agriculture regulations are at title 36, “Parks, Forests, and Public Property”, 36 CFR 242.1-28. Until recently, the Department of the Interior regulations were at title 50, “Wildlife and Fisheries,” 50 CFR 100.1 through 100.28. After the proposed rule was published, the Office of Subsistence Management was moved by Congress and Secretarial Order from the U.S. Fish and Wildlife Service to the Department of the Interior, Office of the Assistant Secretary for Policy, Management, and Budget. In July 2025, the Department of the Interior Federal subsistence regulations were relocated to title 43, Public Lands: Interior, at 43 CFR 51.1 through 51.28.

To indicate that identical changes are proposed for regulations in both titles 36 and 43, in this document we will present references to specific sections of the CFR as shown in the following example: § __.24.

The Program regulations contain subparts as follows: Subpart A, General Provisions; Subpart B, Program Structure; Subpart C, Board Determinations; and Subpart D, Subsistence Taking of Fish and Wildlife. Consistent with subpart B of these regulations, the Secretaries established a Federal Subsistence Board (hereafter referred to as “the Board”) to administer the Program. The Board comprises:

• A Chair appointed by the Secretary of the Interior with concurrence of the Secretary of Agriculture;

• Five public members appointed by the Secretary of the Interior with concurrence of the Secretary of Agriculture;

• The Alaska Regional Director, U.S. Fish and Wildlife Service;

• The Alaska Regional Director, National Park Service;

• The Alaska State Director, Bureau of Land Management;

• The Alaska Regional Director, Bureau of Indian Affairs; and

• The Alaska Regional Forester, U.S. Forest Service.

Through the Board, these agencies participate in the development of regulations for subparts C and D, which, among other things, set forth program eligibility, including determinations of which areas or communities in Alaska are nonrural, and specific harvest seasons and limits. The Board receives analytical and administrative assistance from the Interagency Staff Committee, which consists of senior technical experts from the Office of Subsistence Management, U.S. Fish and Wildlife Service, National Park Service, Bureau of Land Management, Bureau of Indian Affairs, and USDA-Forest Service (per § __.10(d)(7)).

In administering the Program, the Secretaries divided Alaska into 10 subsistence resource regions, each of which is represented by a Federal Subsistence Regional Advisory Council (hereafter referred to as “the Council”). The Councils provide a forum for rural residents with personal knowledge of local conditions and resource requirements to have a meaningful role in the subsistence management of fish and wildlife on Federal public lands in Alaska. The Council members represent varied geographical, cultural, and user interests within each region.

The Board conducts rulemaking for the Program on a biennial schedule with the process of revising the fish and shellfish regulations and the process for revising the wildlife regulations occurring during opposite years. The Board addresses “customary and traditional use” determinations during the applicable biennial cycle. The regulations at § __.4 define “customary and traditional use” as “a long-established, consistent pattern of use, incorporating beliefs and customs which have been transmitted from generation to generation.” Since establishment of the Program regulations in 1992, the Board has made a number of customary and traditional use determinations at the request of affected subsistence users. These determinations have resulted in revisions to the regulations at § __.24. Those modifications, along with some administrative corrections, were published in the Federal Register as follows:

Table 1—Modifications to § __.24, Customary and Traditional Use Determinations
Federal Register citation | Date of publication | Rule made changes to the following provisions of __.24
59 FR 27462 | May 27, 1994 | Wildlife and Fish/Shellfish.
59 FR 51855 | October 13, 1994 | Wildlife and Fish/Shellfish.
60 FR 10317 | February 24, 1995 | Wildlife and Fish/Shellfish.
61 FR 39698 | July 30, 1996 | Wildlife and Fish/Shellfish.
62 FR 29016 | May 29, 1997 | Wildlife and Fish/Shellfish.
63 FR 35332 | June 29, 1998 | Wildlife and Fish/Shellfish.
63 FR 46148 | August 28, 1998 | Wildlife and Fish/Shellfish.
64 FR 1276 | January 8, 1999 | Fish/Shellfish.
66 FR 10142 | February 13, 2001 | Fish/Shellfish.
67 FR 5890 | February 7, 2002 | Fish/Shellfish.
68 FR 7276 | February 12, 2003 | Fish/Shellfish.
69 FR 5018 | February 3, 2004 | Fish/Shellfish.
70 FR 13377 | March 21, 2005 | Fish/Shellfish.
71 FR 15569 | March 29, 2006 | Fish/Shellfish.
72 FR 12676 | March 16, 2007 | Fish/Shellfish.
72 FR 73426 | December 27, 2007 | Wildlife/Fish.
74 FR 14049 | March 30, 2009 | Fish/Shellfish.
76 FR 12564 | March 8, 2011 | Fish/Shellfish.
77 FR 35482 | June 13, 2012 | Wildlife.
79 FR 35232 | June 19, 2014 | Wildlife.
81 FR 52528 | August 8, 2016 | Wildlife.
83 FR 3079 | January 23, 2018 | Fish.
83 FR 50758 | October 9, 2018 | Wildlife.
84 FR 39744 | August 12, 2019 | Fish.
85 FR 74796 | November 23, 2020 | Wildlife.
87 FR 44846 | July 26, 2022 | Wildlife.
89 FR 14746 | February 29, 2024 | Fish.
89 FR 70348 | August 29, 2024 | Wildlife.

Current Rulemaking Action

The Departments published a proposed rule, Subsistence Management Regulations for Public Lands in Alaska—2025-26 and 2026-27 Subsistence Taking of Fish and Shellfish Regulations, on March 22, 2024 (89 FR 20380), to amend the regulations in subparts C and D of 36 CFR part 242 and 50 CFR part 100 for seasons, harvest limits, and methods and means related to taking of fish and shellfish for subsistence uses. Since the Department of the Interior Federal subsistence regulations were subsequently relocated from 50 CFR part 100, the regulations referenced in the remainder of this document will be 36 CFR part 242 and 43 CFR part 51.

The proposed rule opened a comment period that closed on May 21, 2024. The Departments advertised the proposed rule on the Program's web page and by email, social media, radio, and newspaper. The Councils met March 5-8, 2024, and in addition to other business, received suggestions for proposals from the public. The Board received a total of 24 proposals. Two proposals were withdrawn, and three proposals were classified as invalid. One proposal was invalidated because it requested a special action, which is outside the scope of the proposed rule. Another was invalidated because it was submitted past the deadline. The third proposal was invalidated because it requested a regulation change where there are no Federal public lands. The Board received two valid proposals for changes to subpart C (customary and traditional use determinations) and 17 valid proposals for changes to subpart D regulations (which are specific provisions regarding the take of fish and wildlife). In addition, four fisheries closure reviews were presented for comment as required by Board policy that specifies a review of each closure at least every 4 years. The Board also addressed one nonrural determination proposal submitted during the 2023-2025 fisheries proposal cycle (87 FR 15155, March 17, 2022) and one proposal that was deferred from the previous wildlife regulatory cycle (88 FR 12285, February 27, 2023).

The public submitted 10 comments, which are available for review at https://www.regulations.gov in Docket No. FWS-R7-SM-2023-0214-0001. The Board reviewed and considered all public comments received on the proposed rule. Most of the comments were proposal submissions in response to the request for proposals outlined in the proposed rule. Most other comments reflected the same concerns or issues that were also included in proposals that were presented to the Board; therefore, the issues raised were considered during Board deliberations on the proposals. The remaining public comments pertained to issues outside the scope of this rulemaking action.

After the comment period closed, the Board posted the proposals on the Program website and distributed a news release notifying the public. The public then had 30 days, until July 8, 2024, to comment on the proposed regulatory changes.

The 10 Councils met again between August 19 and October 30, 2024, received public comments, and formulated their recommendations to the Board on proposals for their respective regions. The public also had an opportunity to comment at the Board meeting. Therefore, the public received extensive opportunity to review and comment on all changes.

The Councils had a substantial role in reviewing the proposed rule and making recommendations for the final rule. Moreover, a Council Chair, or a designated representative, presented each Council's recommendations at the Board's public meeting of February 4-7, 2025.

Summary of Board Actions on Proposals and Closure Reviews

The Board's actions on each proposal and closure review are listed in table 2 below. When making decisions, the Board may use, but is not limited to, the following guidelines for consideration of whether a proposal:

• provides a subsistence priority on public lands;

• is supported by substantial scientific evidence and traditional ecological knowledge (TEK);

• recognizes principles of fish and wildlife conservation;

• provides opportunity; and

• would not be detrimental to or place undue burden on rural Alaskan subsistence users.

Consensus agenda: The consensus agenda is made up of proposals and closure reviews for which there is agreement concerning a proposed regulatory action among the affected Councils, a majority of the Interagency Staff Committee members, and the Alaska Department of Fish and Game (ADF&G). Anyone may request that the Board remove a proposal or a closure review from the consensus agenda and place it on the non-consensus agenda. Proposals or closure reviews may be taken off the consensus agenda following the agreement of at least one Board member; such proposals or closure reviews then follow the Board process for non-consensus items and are deliberated and voted on individually. FP25-03a and FP25-03b, customary and traditional use determination proposals for the community of Tolsona, AK, were moved from the consensus agenda to the non-consensus agenda at the request of a member of the public and agreement by a Board member. Of the proposals and closure reviews being considered, 8 were on the Board's non-consensus agenda, and 17 were on the consensus agenda. The Board votes en masse on the consensus agenda after deliberation and action on all other proposals.

Of the proposals on the consensus agenda, the Board adopted four as they were written, adopted six with modifications, and rejected four. Of the closure reviews on the consensus agenda, the Board retained the status quo on two and took no action on one. Analysis and justification for the action taken on each proposal on the consensus agenda can be found in the Board meeting book and transcripts for the meeting that occurred February 4-7, 2025 in Anchorage, AK. Documents are available for review at the Office of Subsistence Management (OSM), 1011 East Tudor Road, Mail Stop 121, Anchorage, AK 99503; at https://www.regulations.gov in Docket No. FWS-R7-SM-2022-0105; or on the OSM website (https://www.doi.gov/subsistence).

Non-consensus agenda: Of the proposals on the non-consensus agenda, the Board adopted one as it was written, adopted one with modification, deferred three, and rejected two. The Board retained the status quo on the one closure review on the non-consensus agenda. Analysis and justification for the action taken on each item on the non-consensus agenda can be found in the Board meeting book and transcripts. Documents are available for review at the Office of Subsistence Management, 1011 East Tudor Road, Mail Stop 121, Anchorage, AK 99503; at https://www.regulations.gov in Docket No. FWS-R7-SM-2022-0105; or on the OSM website (https://www.doi.gov/subsistence).

Table 2—Federal Subsistence Board Actions on Proposed Revisions to the Regulations for the Federal Subsistence Management Program
Proposal No. | Species or issue | Location or area | General description | Federal Subsistence Board action and basis for decision
NDP25-01 | Nonrural determination | Southeastern Alaska Area | Request to change status of Ketchikan from nonrural to rural | Adopt. Ketchikan exhibits rural characteristics to the extent that the community should be considered rural.
WP24-01 | Brown bear | Statewide | General regulations: Allow for sale of brown bear hides | Defer to Board summer work session to allow Councils to provide updated recommendations based on new information provided to the Board.
WP25-01 | Caribou | Units 11, 12, 13 | Change all Nelchina caribou herd subsistence hunts to “may be announced,” delegate authority to manage hunts, and conduct an ANILCA section 804 user prioritization | Adopt with modification (consensus agenda).
FP25-01 | Salmon | Southeastern Alaska Area | Set seasons, gear types, harvest limits, and area for subsistence salmon harvest in the Taku River | Defer action pending coordination and consultation with the Pacific Salmon Commission.
FP25-02 | Eulachon | Southeastern Alaska Area | Close harvest of eulachon in Unuk River to all but federally qualified subsistence users | Defer due to action on NDP25-01 recognizing Ketchikan as rural.
FCR25-03 | Herring | Southeastern Alaska Area | Review closure of Makhnati Island herring to non-federally qualified users | Retain status quo (consensus agenda).
FP25-03a | Salmon | Prince William Sound Area | Tolsona customary and traditional use request for salmon in the Chitina Subdistrict | Reject in deference to Council recommendations.
FP25-03b | Nonsalmon fish | Prince William Sound Area | Tolsona customary and traditional use request for nonsalmon fish in the Chitina Subdistrict | Reject in deference to Council recommendations.
| Salmon | Prince William Sound Area | Align Prince William Sound areas and limits with new State regulations | Invalid.
FP25-04 | Salmon | Kodiak Area | Adjust the in-river subsistence salmon harvest limits for the Buskin River | Reject (consensus agenda).
FP25-05 | Salmon | Kodiak Area | Limit gear type to rod and reel for salmon in previously closed area of Afognak Bay | Adopt (consensus agenda).
FP25-06 | Salmon | Kodiak Area | Rescind harvest limits for salmon in the Kodiak Road Zone | Reject (consensus agenda).
FP25-07 | All fish | Alaska Peninsula Area | Adjustments to area fishing regulations, including permitting | Adopt with OSM modification (consensus agenda).
FP25-08 | All fish | Aleutian Islands Area | Adjustments to area fishing regulations, including permitting | Adopt with OSM modification (consensus agenda).
FP25-09 | All fish | Bristol Bay Area | Allowance for use of red buoys with subsistence gear in Bristol Bay Area | Adopt with OSM modification (consensus agenda).
FP25-10 | All fish | Bristol Bay Area | Repeal area closure to use of nets within 300 feet of a stream mouth used by salmon | Adopt with OSM modification (consensus agenda).
FP25-11 | Salmon | Bristol Bay Area | Allow additional methods and gear types in the Bristol Bay Area | Adopt with OSM modification (consensus agenda).
FP25-12 | Salmon | Bristol Bay Area | Repeal Togiak River subsistence salmon marking requirement | Adopt (consensus agenda).
FP25-13 | Salmon | Bristol Bay Area | Rescind Egegik River subsistence set gillnet length restrictions | Reject (consensus agenda).
FP25-14 | Salmon | Bristol Bay Area | Add gear types for harvest of salmon in waters of the Togiak National Wildlife Refuge | Adopt (consensus agenda).
FP25-15 | All fish | Kuskokwim Area | Decrease allowable distance between subsistence set gillnets in tributaries of part of the Kuskokwim River | Reject (consensus agenda).
| Moose | Kuskokwim Area | Temporary closure of fishing by non-federally qualified users | Invalid.
FP25-16 | Nonsalmon fish | Yukon-Northern Area | Specify subsistence gear types and arctic grayling harvest and possession limits in portions of Bonanza Creek and Kanuti River drainages | Adopt (consensus agenda).
FP25-17 | Nonsalmon fish | Yukon-Northern Area | Rescind closure to subsistence fishing in the Delta River and allow only rod and reel gear | Adopt with OSM modification in deference to Council recommendation.
FCR23-05 | Nonsalmon fish | Yukon-Northern Area | Review closure of subsistence fishing in the Delta River | Take no action (consensus agenda).
FCR25-02 | Arctic grayling | Yukon-Northern Area | Review closure of arctic grayling subsistence harvest in Nome Creek drainage of Beaver Creek | Retain status quo in deference to the Council.
FCR25-01 | Chinook salmon | Norton Sound-Port Clarence Area | Review closure to harvest of chinook salmon in the Unalakleet River, upstream from the mouth of the Chirosky River from July 1 to July 31 | Retain status quo (consensus agenda).
| Salmon | Norton Sound-Port Clarence Area | Remove weekly closures for freshwater set netting | Invalid.

The final regulations in this document reflect Board review and consideration of Council recommendations, Tribal and Alaska Native corporation consultations, and public and ADF&G comments. The proposals and closure reviews indicated above in table 2 as “adopt” or “adopt with modification” are reflected in the rule portion of this document as amendments to the Program regulations. While all public comments received on the proposed rule were considered, some were outside the scope of this rulemaking action. Because this rule concerns public lands managed by a bureau or bureaus in both the Departments of Agriculture and the Interior, identical text will be incorporated into 36 CFR part 242 and 43 CFR part 51.

This rule also corrects an error resulting from a prior final rule published on August 29, 2024 (89 FR 70366). That rule mistakenly deleted a single regulation at § __.26(n)(17)(iii)(E) regarding hunting provisions in Unit 17. That regulation had been adopted by the Board and set forth in a final rule on February 29, 2024 (89 FR 14756). This rule adds that regulation back into § __.26.

Compliance With Statutory and Regulatory Authorities

Administrative Procedure Act Compliance

The Board has provided extensive opportunity for public input and involvement in compliance with the Administrative Procedure Act (5 U.S.C. 551 et seq.), including publishing a proposed rule in the Federal Register, participation in multiple Council meetings, additional public review and comment on all proposals for regulatory change, and opportunity for additional public comment during the Board meeting prior to deliberation. Additionally, an administrative mechanism exists to request reconsideration of the Board's decision on any proposal for regulatory change (36 CFR 242.20 and 43 CFR 51.20). Therefore, the Board believes that sufficient public notice and opportunity for involvement have been given to affected persons regarding Board decisions.

In the more than 30 years that the Program has been operating, no benefit to the public has been demonstrated by delaying the effective date of the subsistence regulations. A lapse in regulatory control could affect the continued viability of fish or wildlife populations and future subsistence opportunities for rural Alaskans and would generally fail to serve the overall public interest. Therefore, the Board finds good cause pursuant to 5 U.S.C. 553(d)(3) to make this rule effective upon the date set forth in DATES to ensure continued operation of the subsistence program.

National Environmental Policy Act

A draft environmental impact statement that described four alternatives for developing a Federal Subsistence Management Program was distributed for public comment on October 7, 1991. The final environmental impact statement (FEIS) was published on February 28, 1992. The Record of Decision (ROD) on Subsistence Management for Federal Public Lands in Alaska was signed April 6, 1992. The selected alternative in the FEIS (alternative IV) defined the administrative framework of an annual regulatory cycle for subsistence regulations.

A 1997 environmental assessment dealt with the expansion of Federal jurisdiction over fisheries and is available at the office listed under FOR FURTHER INFORMATION CONTACT. The Secretary of the Interior, with concurrence of the Secretary of Agriculture, determined that expansion of Federal jurisdiction does not constitute a major Federal action significantly affecting the human environment and, therefore, signed a finding of no significant impact.

Section 810 of ANILCA

An ANILCA section 810 analysis was completed as part of the FEIS process on the Federal Subsistence Management Program. The intent of all Federal subsistence regulations is to accord subsistence uses of fish and wildlife on public lands a priority over the taking of fish and wildlife on such lands for other purposes, unless restriction is necessary to conserve healthy fish and wildlife populations. The final section 810 analysis determination appeared in the April 6, 1992, ROD and concluded that the Federal Subsistence Management Program, under Alternative IV with an annual process for setting subsistence regulations, may have some local impacts on subsistence uses, but will not likely restrict subsistence uses significantly.

During the subsequent environmental assessment process for extending fisheries jurisdiction, an evaluation of the effects of the subsistence program regulations was conducted in accordance with section 810. This evaluation also supported the Secretaries' determination that the regulations will not reach the “may significantly restrict” threshold that would require notice and hearings under ANILCA section 810(a).

Paperwork Reduction Act of 1995 (PRA)

This rule does not contain any new collections of information that require Office of Management and Budget (OMB) approval under the PRA (44 U.S.C. 3501 et seq.). OMB has reviewed and approved the collections of information associated with the subsistence regulations at 36 CFR part 242 and 43 CFR part 51 and assigned OMB Control Number 1018-0075. We may not conduct or sponsor and you are not required to respond to a collection of information unless it displays a currently valid OMB control number. This control number has an expiration date of 11/30/2027.

Regulatory Planning and Review (Executive Orders 12866 and 13563)

According to Executive Order 12866, as reaffirmed by E.O. 13563, regulations must be based on the best available science, and the rulemaking process must allow for public participation and an open exchange of ideas. We have developed this final rule in a manner consistent with these requirements. In addition, E.O. 12866, as reaffirmed by E.O. 13563, provides that the Office of Information and Regulatory Affairs (OIRA) in the Office of Management and Budget (OMB) will review all significant rules. OIRA has determined that this final rule is not significant.

Regulatory Flexibility Act

The Regulatory Flexibility Act of 1980 (5 U.S.C. 601 et seq.) requires preparation of flexibility analyses for rules that will have a significant effect on a substantial number of small entities, which include small businesses, organizations, or governmental jurisdictions. In general, the resources to be harvested under this rule are already being harvested and consumed by the local harvester and do not result in an additional dollar benefit to the economy. However, we estimate that two million pounds of meat are harvested by subsistence users annually and, if given an estimated dollar value of $3.00 per pound, this amount would equate to about $6 million in food value statewide. Based upon the amounts and values cited above, the Departments certify that this rulemaking will not have a significant economic effect on a substantial number of small entities within the meaning of the Regulatory Flexibility Act.

Small Business Regulatory Enforcement Fairness Act

Under the Small Business Regulatory Enforcement Fairness Act (5 U.S.C. 801 et seq.), this rule is not a major rule. It does not have an effect on the economy of $100 million or more, will not cause a major increase in costs or prices for consumers, and will not have significant adverse effects on competition, employment, investment, productivity, innovation, or the ability of U.S.-based enterprises to compete with foreign-based enterprises.

Executive Order 12630

Title VIII of ANILCA requires the Secretaries to administer a subsistence priority on Federal public lands and waters. The scope of this program is limited by definition to certain public lands. Likewise, these regulations have no potential takings of private property implications as defined by Executive Order 12630.

Unfunded Mandates Reform Act

The Secretaries have determined and certify pursuant to the Unfunded Mandates Reform Act, 2 U.S.C. 1502 et seq., that this rulemaking will not impose a cost of $100 million or more in any given year on local or State governments or private entities. This rule will be implemented by Federal agencies with no cost imposed on any State or local entities or Tribal governments.

Executive Order 12988

The Secretaries have determined that these regulations meet the applicable standards provided in sections 3(a) and 3(b)(2) of Executive Order 12988, regarding civil justice reform.

Executive Order 13132

In accordance with Executive Order 13132, the rule does not have sufficient federalism implications to warrant the preparation of a federalism assessment. Title VIII of ANILCA precludes the State from exercising subsistence management authority over fish and wildlife resources on Federal lands unless it meets certain requirements.

Executive Order 13175

Title VIII of ANILCA does not provide rights specific to Tribes for the subsistence taking of wildlife, fish, and shellfish. However, the Board provided federally recognized Tribes and Alaska Native corporations opportunities to consult on this rule. Consultation with Alaska Native corporations are based on Public Law 108-199, div. H, Sec. 161, Jan. 23, 2004, 118 Stat. 452, as amended by Public Law 108-447, div. H, title V, Sec. 518, Dec. 8, 2004, 118 Stat. 3267, which provides that: “The Director of the Office of Management and Budget and all Federal agencies shall hereafter consult with Alaska Native corporations on the same basis as Indian tribes under Executive Order No. 13175.”

The Secretaries, through the Board, provided a variety of opportunities for consultation: commenting on proposed changes to the existing rule; engaging in dialogue at the Regional Council meetings; engaging in dialogue at the Board's meetings; and providing input in person, by mail, email, or phone at any time during the rulemaking process.

On February 3, 2025, the Board provided federally recognized Tribes and Alaska Native Corporations a specific opportunity to consult on this rule prior to the start of its public regulatory meeting. Federally recognized Tribes and Alaska Native Corporations were notified by mail and telephone and were given the opportunity to attend via teleconference.

Executive Order 13211

This Executive order requires agencies to prepare statements of energy effects when undertaking certain actions. However, this rule is not a significant regulatory action under E.O. 13211, affecting energy supply, distribution, or use, and no statement of energy effects is required.

Executive Order 14153

This Executive order directs all bureaus of the Department of the Interior to consider the Alaskan cultural significance of hunting and fishing and the statutory priority of subsistence management required by ANILCA, to conduct meaningful consultation with the State fish and wildlife management agencies prior to enacting regulations that affect the ability of Alaskans to hunt and fish on public lands, and to ensure to the greatest extent possible that hunting and fishing opportunities on Federal lands are consistent with similar opportunities on State lands.

The Board offered consultation with the State of Alaska on all matters addressed during this regulatory cycle. In addition, the State was afforded opportunities to provide input into the analyses of all of the proposed changes to the regulations and to provide comments to the Councils and the Board on regulatory matters being considered. The Board considered all comments and information provided by the State in this process. The Board also reviewed applicable State regulations. Deviations in consistency between State and Federal hunting and fishing opportunities were minimized to the extent possible while the Program continued to meet the mandates of ANILCA.

Executive Order 14192

This Executive order requires that, for each new regulation issued, at least 10 prior regulations be identified for elimination. The purpose is to ensure that the cost of planned regulations is responsibly managed and controlled through a rigorous regulatory budgeting process. The Program's rulemaking does not create new regulations, rather it revises existing regulations. Since this rulemaking does not create new regulations, it does not necessitate the identification of regulations for recission.

Drafting Information

Justin Koller drafted this rule under the guidance of Crystal Leonetti of the Office of Subsistence Management, Anchorage, Alaska. Additional assistance was provided by:

• Chris McKee, Alaska State Office, Bureau of Land Management;

• Dr. Kim Jochum, Alaska Regional Office, National Park Service;

• Dr. Glenn Chen, Alaska Regional Office, Bureau of Indian Affairs;

• Jill Klein, Alaska Regional Office, U.S. Fish and Wildlife Service; and

• Gregory Risdahl, Alaska Regional Office, USDA-Forest Service.

List of Subjects in 36 CFR Part 242 and 43 CFR Part 51

Administrative practice and procedure, Alaska, Fish and shellfish, National forests, Public lands, Reporting and recordkeeping requirements, Wildlife.

For the reasons set out in the preamble, the Federal Subsistence Board amends 36 CFR part 242 and 43 CFR part 51, as set forth below.

PART__SUBSISTENCE MANAGEMENT REGULATIONS FOR PUBLIC LANDS IN ALASKA

1. The authority citation for both 36 CFR part 242 and 43 CFR part 51 continues to read as follows:

Authority: 16 U.S.C. 3, 472, 551, 668dd, 3101-3126; 18 U.S.C. 3551-3586; 43 U.S.C. 1733.

Subpart C—Board Determinations

2. Amend § __.23 by revising paragraph (a) to read as follows:

§ __.23 Rural Determinations.

(a) The Board has determined all communities and areas to be rural in accordance with § _.15 except the following: Fairbanks North Star Borough; Homer area—including Homer, Anchor Point, Kachemak City, and Fritz Creek; Juneau area—including Juneau, West Juneau, and Douglas; Kenai area—including Kenai, Soldotna, Sterling, Nikiski, Salamatof, Kalifornsky, Kasilof, and Clam Gulch; Municipality of Anchorage; Seward area—including Seward and Valdez, and Wasilla/Palmer area—including Wasilla, Palmer, Sutton, Big Lake, Houston, and Bodenburg Butte.

* * * * *

Subpart D—Subsistence Taking of Fish and Wildlife

3. Amend § __.26 in paragraph (n) by revising:

a. Table 11 to paragraph (n)(11);

b. Table 12 to paragraph (n)(12);

c. Table 13 to paragraph (n)(13); and

d. Paragraph (n)(17)(iii).

The revisions read as follows:

§ __.26 Subsistence taking of wildlife.

* * * * *

(n) * * *

(11) * * *

Table 11 to Paragraph (n)(11)
Harvest limits | Open season
Hunting
Bear, black: 3 bears | July 1-June 30.
Bear, brown: 1 bear | Aug. 10-June 15.
Caribou: 1 bull by Federal registration permit | May be announced.
The Wrangell-St. Elias National Park and Preserve Superintendent, in consultation with the Alaska Department of Fish and Game, Office of Subsistence Management, and Chairs of the affected Councils, may announce season dates, harvest quotas, and the number of permits to be issued, open and close seasons, and define harvest areas |
Federal public lands in Unit 11 north of the Sanford River are closed to caribou hunting except by residents of Chistochina, Gakona, Glennallen, Gulkana, Mentasta Lake, and Slana/Nabesna Road hunting under this part |
Federal public lands in Unit 11 remainder are closed to caribou hunting except by residents of Chitina, Copper Center/Silver Springs, Kenny Lake/Willow Creek, Gakona, Glennallen, Gulkana, McCarthy, McCarthy Road, Tazlina, and Tonsina hunting under this part |
Sheep:
1 ram | Aug. 10-Sep. 20.
1 sheep by Federal registration permit only by persons 60 years of age or older. Ewes accompanied by lambs or lambs may not be taken | Aug. 1-Oct. 20.
Goat:
Unit 11, that portion within the Wrangell-St. Elias National Park and Preserve that is bounded by the Chitina and Nizina Rivers on the south, the Kennicott River and glacier on the southeast, and the Root Glacier on the east—1 goat by Federal registration permit only | Aug. 25-Dec. 31.
Unit 11, the remainder of the Wrangell-St. Elias National Park and Preserve—1 goat by Federal registration permit only | Aug. 10-Dec. 31.
Unit 11, that portion outside of the Wrangell-St. Elias National Park and Preserve | No open season.
Federal public lands will be closed by announcement of the Superintendent, Wrangell-St. Elias National Park and Preserve, to the harvest of goats when a total of 45 goats has been harvested between Federal and State hunts |
Moose:
Unit 11, that portion draining into the east bank of the Copper River upstream from and including the Slana River drainage—1 antlered bull by joint Federal/State registration permit | Aug. 20-Sep. 20.
Unit 11, that portion south and east of a line running along the north bank of the Chitina River, the north and west banks of the Nazina River, and the west bank of West Fork of the Nazina River, continuing along the western edge of the West Fork Glacier to the summit of Regal Mountain—1 bull by Federal registration permit. However, during the period Aug. 20-Sep. 20, only an antlered bull may be taken | Aug. 20-Sep. 20; Nov. 20-Jan. 20.
Unit 11, remainder—1 antlered bull by Federal registration permit only | Aug. 20-Sep. 20.
Muskrat: No limit | Sep. 20-June 10.
Beaver: 1 beaver per day, 1 in possession | June 1-Oct. 10.
Coyote: 10 coyotes | Aug. 10-Apr. 30.
Fox, red (including cross, black, and silver phases): 10 foxes; however, no more than 2 foxes may be taken prior to Oct. 1 | Sep. 1-Mar. 15.
Hare, snowshoe: No limit | July 1-June 30.
Lynx: 2 lynx | Nov. 10-Feb. 28.
Wolf: 10 wolves | Aug. 10-Apr. 30.
Wolverine: 1 wolverine | Sep. 1-Feb. 28.
Grouse (spruce, ruffed, and sharp-tailed): 15 per day, 30 in possession | Aug. 10-Mar. 31.
Ptarmigan (rock, willow, and white-tailed): 20 per day, 40 in possession | Aug. 10-Mar. 31.
Trapping
Beaver: No limit | Sep. 25-May 31.
Coyote: No limit | Nov. 10-Mar. 31.
Fox, red (including cross, black, and silver phases): No limit | Nov. 10-Feb. 28.
Lynx: No limit | Nov. 10-Feb. 28.
Marten: No limit | Nov. 10-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Feb. 28.

(12) * * *

Table 12 to Paragraph (n)(12)
Harvest limits | Open season
Hunting
Bear, black: 3 bears | July 1-June 30.
Bear, brown: 1 bear | Aug. 10-June 30.
Caribou:
Unit 12, that portion within the Wrangell-St. Elias National Park and Preserve that lies west of the Nabesna River and the Nabesna Glacier. All hunting of caribou is prohibited on Federal public lands | No open season.
Unit 12, that portion east of the Nabesna River and the Nabesna Glacier and south of the Winter Trail running southeast from Pickerel Lake to the Canadian border—1 bull by Federal registration permit only | Aug. 10-Sep. 30.
Federal public lands are closed to the harvest of caribou except by federally qualified subsistence users hunting under this part |
Unit 12, remainder—1 bull | May be announced between Sep. 1-20.
OR |
1 caribou by Federal registration permit | Winter season may be announced between Oct. 1-Apr. 30.
The Tetlin National Wildlife Refuge Manager, in consultation with the Wrangell-St. Elias National Park and Preserve Superintendent, Alaska Department of Fish and Game area biologists, Office of Subsistence Management, and Chairs of the Eastern Interior Alaska Subsistence Regional Advisory Council and Upper Tanana/Fortymile Fish and Game Advisory Committee may announce season dates and harvest quotas, open and close seasons, and for the winter season, set sex restrictions |
Federal public lands in Unit 12 remainder are closed to caribou hunting except by residents of Alcan Border, Chistochina, Dot Lake, Mentasta Lake, Mentasta Pass, Northway, Tanacross, Tetlin, and Tok hunting under this part |
Sheep:
Unit 12—1 ram with full curl or larger horn | Aug. 10-Sep. 20.
Unit 12, that portion within Wrangell-St. Elias National Park and Preserve—1 ram with full curl horn or larger by Federal registration permit only by persons 60 years of age or older | Aug. 1-Oct. 20.
Moose:
Unit 12, that portion within the Tetlin National Wildlife Refuge and those lands within the Wrangell—St. Elias National Preserve north and east of a line formed by the Pickerel Lake Winter Trail from the Canadian border to Pickerel Lake—1 antlered bull by Federal registration permit | Aug. 24-Sep. 20; Nov. 1-Feb. 28.
Unit 12, that portion east of the Nabesna River and Nabesna Glacier, and south of the Winter Trail running southeast from Pickerel Lake to the Canadian border—1 antlered bull | Aug. 24-Sep. 30.
Unit 12, that portion within the Nabesna River drainage west of the east bank of the Nabesna River upstream from the southern boundary of Tetlin National Wildlife Refuge—1 antlered bull by joint Federal/State registration permit only | Aug. 20-Sep. 20.
Unit 12, remainder—1 bull | Aug. 24-28; Sep. 8-20.
Beaver: Unit 12, Wrangell-St. Elias National Park and Preserve—6 beavers per season. Meat from harvested beaver must be salvaged for human consumption | Sep. 20-May 15.
Coyote: 10 coyotes | Aug. 10-Apr. 30.
Fox, red (including cross, black, and silver phases): 10 foxes; however, no more than 2 foxes may be taken prior to Oct. 1 | Sep. 1-Mar. 15.
Hare, snowshoe: No limit | July 1-June 30.
Lynx: 2 lynx | Nov. 1-Mar. 15.
Wolf: 10 wolves | Aug. 10-Apr. 30.
Wolverine: 1 wolverine | Sep. 1-Mar. 31
Grouse (spruce, ruffed, and sharp-tailed): 15 per day, 30 in possession | Aug. 10-Mar. 31.
Ptarmigan (rock, willow, and white-tailed): 20 per day, 40 in possession | Aug. 10-Apr. 30.
Trapping
Beaver: No limit. Hide or meat must be salvaged. Traps, snares, bow and arrow, or firearms may be used | Sep. 15-Jun 10.
Coyote: No limit | Oct. 15-Apr. 30.
Fox, red (including cross, black, and silver phases): No limit | Nov. 1-Feb. 28.
Lynx: No limit | Nov. 1-Mar. 15.
Marten: No limit | Nov. 1-Feb. 28.
Mink and Weasel: No limit | Nov. 1-Feb. 28.
Muskrat: No limit | Sep. 20-June 10.
Otter: No limit | Nov. 1-Apr. 15.
Wolf: No limit | Oct. 1-Apr. 30.
Wolverine: No limit | Nov. 1-Feb. 28.

(13) * * *

Table 13 to Paragraph (n)(13)
Harvest limits | Open season
Hunting
Bear, black: 3 bears | July 1-June 30.
Bear, brown: 1 bear. Bears taken within Denali National Park must be sealed within 5 days of harvest. That portion within Denali National Park will be closed by announcement of the Superintendent after 4 bears have been harvested | Aug. 10-May 31.
Caribou:
Units 13A and 13B—up to 2 caribou by Federal registration permit only | May be announced between Aug. 1-Sep. 30. May be announced between Oct. 21-Mar. 31.
The Glennallen Field Office Manager, in consultation with the Alaska Department of Fish and Game, Office of Subsistence Management, Ahtna Intertribal Resource Commission, and Chair of the affected Councils, may announce season dates and harvest quotas, open and close seasons, and set sex restrictions and harvest limits |
Federal public lands in Unit 13A are closed to caribou hunting except by residents of Chickaloon, Chitina, Copper Center/Silver Springs, Gakona, Glacier View, Glennallen, Gulkana, Lake Louise, Tazlina, and Tolsona hunting under this part |
Federal public lands in Unit 13B are closed to caribou hunting except by residents of Chitina, Chickaloon, Chistochina, Copper Center/Silver Springs, Gakona, Glacier View, Glennallen, Gulkana, Kenny Lake/Willow Creek, Lake Louise, McCarthy, Nelchina, Paxson, Sheep Mountain, Slana, Tazlina, Tolsona, and Tonsina hunting under this part |
Unit 13, remainder—2 bulls by Federal registration permit only | May be announced between Aug. 1-Sep. 30. May be announced between Oct. 21-Mar. 31.
The Glennallen Field Office Manager, in consultation with the Wrangell-St. Elias National Park and Preserve Superintendent, Denali National Park and Preserve Superintendent, Alaska Department of Fish and Game, Office of Subsistence Management, Ahtna Intertribal Resource Commission, and Chair of the affected Councils, may announce season dates and harvest quotas and open and close seasons |
Federal public lands in Unit 13C are closed to caribou hunting except by residents of Chistochina, Gakona, Glennallen, Gulkana, Mentasta Lake, Mentasta Pass, Slana/Nabesna Road, Tazlina, and Tolsona hunting under this part |
Federal public lands in Unit 13D are closed to caribou hunting except by residents of Chitina, Copper Center, Glennallen, Kenny Lake/Willow Creek, Tazlina, Tolsona, and Tonsina hunting under this part |
Federal public lands in Unit 13E are closed to caribou hunting except by residents of Cantwell, Chase, Denali Village (formerly McKinley Village), and the area between mileposts 216-239 of the Parks Highway (excluding residents of Denali Park Headquarters) hunting under this part |
Sheep: Unit 13, excluding Unit 13D and the Tok Management Area and Delta Controlled Use Area—1 ram with ⅞ curl or larger horn | Aug. 10-Sep. 20.
Moose:
Unit 13E—1 antlered bull moose by Federal registration permit only; only 1 permit will be issued per household | Aug. 1-Sep. 20.
Unit 13, remainder—1 antlered bull moose by Federal registration permit only | Aug. 1-Sep. 20.
Beaver: 1 beaver per day, 1 in possession | June 15-Sep. 10.
Coyote: 10 coyotes | Aug. 10-Apr. 30.
Fox, red (including cross, black, and silver phases): 10 foxes; however, no more than 2 foxes may be taken prior to Oct. 1 | Sep. 1-Mar. 15.
Hare, snowshoe: No limit | July 1-June 30.
Lynx: 2 lynx | Nov. 10-Feb. 28.
Wolf: 10 wolves | Aug. 10-Apr. 30.
Wolverine: 1 wolverine | Sep. 1-Feb. 28.
Grouse (spruce, ruffed, and sharp-tailed): 15 per day, 30 in possession | Aug. 10-Mar. 31.
Ptarmigan (rock, willow, and white-tailed): 20 per day, 40 in possession | Aug. 10-Mar. 31.
Trapping
Beaver: No limit | Sep. 25-May 31.
Coyote: No limit | Nov. 10-Mar. 31.
Fox, red (including cross, black, and silver phases): No limit | Nov. 10-Feb. 28.
Lynx: No limit | Nov. 10-Feb. 28.
Marten: Unit 13—No limit | Nov. 10-Feb. 28.
Mink and Weasel: No limit | Nov. 10-Feb. 28.
Muskrat: No limit | Sep. 25-June 10.
Otter: No limit | Nov. 10-Mar. 31.
Wolf: No limit | Oct. 15-Apr. 30.
Wolverine: No limit | Nov. 10-Feb. 28.

* * * * *

(17) * * *

(iii) Unit-specific regulations:

(A) You may use bait to hunt black bear between April 15 and June 15.

(B) You may hunt brown bear by State registration permit in lieu of a resident tag if you have obtained a State registration permit prior to hunting.

(C) If you have a trapping license, you may use a firearm to take beaver in Unit 17 from April 15 through May 31. You may not take beaver with a firearm under a trapping license on National Park Service lands.

(D) In Unit 17, a snowmachine may be used to assist in the taking of a caribou, and caribou may be shot from a stationary snowmachine. “Assist in the taking of a caribou” means a snowmachine may be used to approach within 300 yards of a caribou at speeds under 15 miles per hour, in a manner that does not involve repeated approaches or that causes a caribou to run. A snowmachine may not be used to contact an animal or to pursue a fleeing caribou.

(E) In Unit 17, a snowmachine may be used to approach and pursue a wolf or wolverine provided the snowmachine does not contact a live animal.

* * * * *

4. Amend § __.27 by revising paragraphs (b)(7) and (e)(3), (5), (6), (7), and (9) to read as follows:

§ __.27 Subsistence taking of fish.

* * * * *

(b) * * *

(7) You may use kegs or buoys of any color but red on any permitted gear in the following areas:

(i) Kotzebue Area; and

(ii) Norton Sound-Port Clarence Area.

* * * * *

(e) * * *

(3) Yukon-Northern Area. The Yukon-Northern Area includes all waters of Alaska between the latitude of Point Romanof and the latitude of the westernmost point of the Naskonat Peninsula, including those waters draining into the Bering Sea, and all waters of Alaska north of the latitude of the westernmost tip of Point Hope and west of 141° West longitude, including those waters draining into the Arctic Ocean and the Chukchi Sea.

(i) Unless otherwise restricted in this section, you may take fish in the Yukon-Northern Area at any time. In those locations where subsistence fishing permits are required, only one subsistence fishing permit will be issued to each household per year. You may subsistence fish for salmon with rod and reel in the Yukon River drainage 24 hours per day, 7 days per week, unless rod and reel are specifically otherwise restricted in this paragraph (e)(3).

(ii) For the Yukon River drainage, Federal subsistence fishing schedules, openings, closings, and fishing methods are the same as those issued for the subsistence taking of fish under Alaska statutes (AS 16.05.060), unless superseded by a Federal special action.

(iii) In the following locations, you may take salmon during the open weekly fishing periods of the State commercial salmon fishing season and may not take them for 24 hours before the opening of the State commercial salmon fishing season:

(A) In District 4, excluding the Koyukuk River drainage;

(B) In Subdistricts 4B and 4C from June 15 through September 30, salmon may be taken from 6 p.m. Sunday until 6 p.m. Tuesday and from 6 p.m. Wednesday until 6 p.m. Friday;

(C) In District 6, excluding the Kantishna River drainage, salmon may be taken from 6 p.m. Friday until 6 p.m. Wednesday.

(iv) During any State commercial salmon fishing season closure of greater than 5 days in duration, you may not take salmon during the following periods in the following districts:

(A) In District 4, excluding the Koyukuk River drainage, salmon may not be taken from 6 p.m. Friday until 6 p.m. Sunday;

(B) In District 5, excluding the Tozitna River drainage and Subdistrict 5D, salmon may not be taken from 6 p.m. Sunday until 6 p.m. Tuesday.

(v) Except as provided in this section, and except as may be provided by the terms of a subsistence fishing permit, you may take fish other than salmon at any time.

(vi) In Districts 1, 2, 3, and Subdistrict 4A, excluding the Koyukuk and Innoko River drainages, you may not take salmon for subsistence purposes during the 24 hours immediately before the opening of the State commercial salmon fishing season.

(vii) In Districts 1, 2, and 3:

(A) After the opening of the State commercial salmon fishing season through July 15, you may not take salmon for subsistence for 18 hours immediately before, during, and for 12 hours after each State commercial salmon fishing period;

(B) After July 15, you may not take salmon for subsistence for 12 hours immediately before, during, and for 12 hours after each State commercial salmon fishing period.

(viii) In Subdistrict 4A after the opening of the State commercial salmon fishing season, you may not take salmon for subsistence for 12 hours immediately before, during, and for 12 hours after each State commercial salmon fishing period; however, you may take Chinook salmon during the State commercial fishing season, with drift gillnet gear only, from 6 p.m. Sunday until 6 p.m. Tuesday and from 6 p.m. Wednesday until 6 p.m. Friday.

(ix) You may not subsistence fish for salmon in the following drainages located north of the main Yukon River:

(A) Kanuti River upstream from a point 5 miles downstream of the State highway crossing;

(B) Bonanza Creek;

(C) Jim River including Prospect and Douglas Creeks.

(x) In Beaver Creek downstream from the confluence of Moose Creek, a gillnet with mesh size not to exceed 3 inches stretch-measure may be used from June 15 through September 15. You may subsistence fish for all non-salmon species but may not target salmon during this time period (retention of salmon taken incidentally to non-salmon directed fisheries is allowed). From the mouth of Nome Creek downstream to the confluence of Moose Creek, only rod and reel may be used. From the mouth of Nome Creek downstream to the confluence of O'Brien Creek, the daily harvest and possession limit is 5 grayling; from the mouth of O'Brien Creek downstream to the confluence of Moose Creek, the daily harvest and possession limit is 10 grayling. The Nome Creek drainage of Beaver Creek is closed to subsistence fishing for grayling.

(xi) You may take salmon only by gillnet, beach seine, dip net, fish wheel, or rod and reel, subject to the restrictions set forth in this section.

(A) In the Yukon River drainage, you may not take salmon for subsistence fishing using gillnets with stretched mesh larger than 7.5 inches.

(B) In Subdistrict 5D, you may take salmon once the mid-range of the Canadian interim management escapement goal and the total allowable catch goal are projected to be achieved.

(C) Salmon may be harvested by dip net at any time, except during times of conservation when the Federal in-season manager may announce restrictions on time, areas, and species.

(xii) In District 4, if you are a commercial fisherman, you may not take salmon for subsistence purposes during the State commercial salmon fishing season using gillnets with stretched-mesh larger than 6 inches after a date specified by ADF&G emergency order issued between July 10 and July 31.

(xiii) In Districts 5 and 6, you may not take salmon for subsistence purposes by drift gillnets.

(xiv) In District 4, salmon may be taken by drift gillnet not more than 150 feet in length unless restricted by special action or as modified by regulations in this section.

(xv) Unless otherwise specified in this section, you may take fish other than salmon by set gillnet, drift gillnet, beach seine, fish wheel, long line, fyke net, dip net, jigging gear, spear, lead, or rod and reel, subject to the following restrictions, which also apply to subsistence salmon fishing:

(A) During the open weekly fishing periods of the State commercial salmon fishing season, if you are a commercial fisherman, you may not operate more than one type of gear at a time, for commercial, personal use, and subsistence purposes.

(B) You may not use an aggregate length of set gillnet in excess of 150 fathoms, and each drift gillnet may not exceed 50 fathoms in length.

(C) In Districts 4, 5, and 6, you may not set subsistence fishing gear within 200 feet of other fishing gear operating for commercial, personal, or subsistence use except that, at the site approximately 1 mile upstream from Ruby on the south bank of the Yukon River between ADF&G regulatory markers containing the area known locally as the “Slide,” you may set subsistence fishing gear within 200 feet of other operating commercial or subsistence fishing gear, and in District 4, from Old Paradise Village upstream to a point 4 miles upstream from Anvik, there is no minimum distance requirement between fish wheels.

(D) During the State commercial salmon fishing season, within the Yukon River and the Tanana River below the confluence of the Wood River, you may use drift gillnets and fish wheels only during open subsistence salmon fishing periods.

(E) In Birch Creek, gillnet mesh size may not exceed 3 inches stretch-measure from June 15 through September 15.

(F) In Racetrack Slough on the Koyukuk River and in the sloughs of the Huslia River drainage, from when each river is free of ice through June 15, the offshore end of the set gillnet may not be closer than 20 feet from the opposite bank except that sloughs 40 feet or less in width may have ¾-width coverage with set gillnet, unless closed by Federal special action.

(G) In the Jim River drainage, including Prospect and Douglas Creeks, you may harvest fish other than salmon with rod and reel only; the grayling harvest and possession limit is 10 per day.

(H) In the Bonanza Creek drainage and a portion of the Kanuti River drainage (upstream from a point 5 miles downstream of the State highway crossing), you may harvest fish other than salmon with rod and reel only; the grayling harvest and possession limit is 10 per day.

(I) In the Delta River drainage (excluding the Tangle Lakes system), you may harvest fish with rod and reel only.

(xvi) In District 4, from September 21 through May 15, you may use jigging gear from shore ice.

(xvii) You must possess a subsistence fishing permit for the following locations:

(A) For the Yukon River drainage from the mouth of Hess Creek to the mouth of the Dall River;

(B) For the Yukon River drainage from the upstream mouth of 22 Mile Slough to the U.S.-Canada border;

(C) Only for salmon in the Tanana River drainage above the mouth of the Wood River.

(xviii) Only one subsistence fishing permit will be issued to each household per year.

(xix) In Districts 1, 2, and 3, from June 1 through July 15, if ADF&G has announced that Chinook salmon can be sold in the commercial fisheries, you may not possess Chinook salmon taken for subsistence purposes unless both tips (lobes) of the tail fin have been removed before the person conceals the salmon from plain view or transfers the salmon from the fishing site.

(xx) In the Yukon River drainage, Chinook salmon must be used primarily for human consumption and may not be targeted for dog food. Dried Chinook salmon may not be used for dog food anywhere in the Yukon River drainage. Whole fish unfit for human consumption (due to disease, deterioration, and deformities), scraps, and small fish (16 inches or less) may be fed to dogs. Also, whole Chinook salmon caught incidentally during a subsistence chum salmon fishery in the following time periods and locations may be fed to dogs:

(A) After July 10 in the Koyukuk River drainage;

(B) After August 10, in Subdistrict 5D, upstream of Circle City.

* * * * *

(5) Bristol Bay Area. The Bristol Bay Area includes all waters of Bristol Bay, including drainages enclosed by a line from Cape Newenham to Cape Menshikof.

(i) Unless restricted in this section, or unless under the terms of a subsistence fishing permit, you may take fish at any time in the Bristol Bay area.

(ii) You may not take salmon from waters within 300 feet of a stream mouth.

(iii) You may not subsistence fish with nets in the Tazimina River and within one-fourth mile of the terminus of those waters during the period from September 1 through June 14.

(iv) Unless otherwise specified, you may take salmon by set gillnet, beach seine, and dip net.

(A) You may take salmon by snagging (by handline or rod and reel), cast net, spear, bow and arrow, or capturing by bare hand within the Togiak National Wildlife Refuge in the Bristol Bay Area.

(B) You may also use drift gillnets not greater than 10 fathoms in length to take salmon in the Togiak River in the first 2 river miles upstream from the mouth of the Togiak River to the ADF&G regulatory markers.

(C) You may also take salmon without a permit in Sixmile Lake and its tributaries within and adjacent to the exterior boundaries of Lake Clark National Park and Preserve unless otherwise prohibited, and Lake Clark and its tributaries, by snagging (by handline or rod and reel), using a spear, bow and arrow, rod and reel, or capturing by bare hand.

(D) You may also take salmon by beach seines not exceeding 25 fathoms in length and by drift gill nets in Lake Clark and Sixmile Lake, excluding tributaries.

(E) You may also take fish (except rainbow trout) with a fyke net and lead in tributaries of Lake Clark and the tributaries of Sixmile Lake within and adjacent to the exterior boundaries of Lake Clark National Park and Preserve unless otherwise prohibited.

(1) You may use a fyke net and lead only with a permit issued by the Federal in-season manager.

(2) All fyke nets and leads must be attended at all times while in use.

(3) All materials used to construct the fyke net and lead must be made of wood and be removed from the water when the fyke net and lead is no longer in use.

(v) The maximum lengths for set gillnets used to take salmon are as follows:

(A) You may not use set gillnets exceeding 10 fathoms in length in the Egegik River;

(B) In the remaining waters of the area, you may not use set gillnets exceeding 25 fathoms in length.

(vi) You may not operate any part of a set gillnet within 300 feet of any part of another set gillnet.

(vii) You must stake and buoy each set gillnet. Instead of having the identifying information on a keg or buoy attached to the gillnet, you may plainly and legibly inscribe your first initial, last name, and subsistence permit number on a sign at or near the set gillnet.

(viii) You may not operate or assist in operating subsistence salmon net gear while simultaneously operating or assisting in operating commercial salmon net gear.

(ix) You may take fish other than salmon, herring, and capelin by gear listed in this part unless restricted under the terms of a subsistence fishing permit.

(x) You may take salmon only under authority of a State subsistence salmon permit (permits are issued by ADF&G) except when using a Federal permit for fyke net and lead.

(xi) Only one State subsistence fishing permit for salmon and one Federal permit for use of a fyke net and lead for all fish (except rainbow trout) may be issued to each household per year.

(xii) You may take rainbow trout only by rod and reel or jigging gear. Rainbow trout daily harvest and possession limits are two per day/two in possession with no size limit from April 10 through October 31 and five per day/five in possession with no size limit from November 1 through April 9.

(xiii) If you take rainbow trout incidentally in other subsistence net fisheries, or through the ice, you may retain them for subsistence purposes.

(6) Aleutian Islands Area. The Aleutian Islands Area includes all waters of Alaska west of the longitude of the tip of Cape Sarichef, east of 172° East longitude, and south of 54°36′ North latitude.

(i) You may take fish other than salmon and rainbow/steelhead trout at any time. If you take rainbow/steelhead trout incidentally in other subsistence fisheries, you may retain them for subsistence purposes.

(ii) In the Unalaska District, you may take salmon for subsistence purposes from 6 a.m. until 9 p.m. from January 1 through December 31.

(iii) In the Adak, Akutan, Atka-Amlia, and Umnak Districts, you may take salmon at any time.

(iv) You may not subsistence fish for salmon in the following waters:

(A) The waters of Unalaska Lake, its tributaries, and outlet stream;

(B) The waters of Summers and Morris Lakes and their tributaries and outlet streams;

(C) All streams supporting anadromous fish runs that flow into Unalaska Bay south of a line from the northern tip of Cape Cheerful to the northern tip of Kalekta Point; and

(D) Waters of McLees Lake and its tributaries and outlet stream.

(v) You may not take fish by net in freshwater on Adak and Kagalaska islands.

(vi) In the Unalaska District, if you fish with a net, you must be physically present at the net at all times when the net is being used.

(vii) A subsistence fishing permit is necessary to fish for salmon, trout, and char, except that you do not need a permit in the Akutan, Umnak, and Atka-Amlia Islands Districts.

(viii) You may take no more than 250 salmon for subsistence purposes, except that in the Unalaska and Adak Districts, you may take no more than 25 salmon plus an additional 25 salmon for each member of your household listed on the permit. You may obtain an additional permit.

(7) Alaska Peninsula Area. The Alaska Peninsula Area includes all waters of Alaska on the north side of the Alaska peninsula southwest of a line from Cape Menshikof (57°28.34′ North latitude, 157°55.84′ West longitude) to Cape Newenham (58°39.00′ North latitude, 162° West longitude) and east of the longitude of Cape Sarichef Light (164°55.70′ West longitude) and on the south side of the Alaska Peninsula from a line extending from Scotch Cape through the easternmost tip of Ugamak Island to a line extending 135° southeast from Kupreanof Point (55°33.98′ North latitude, 159°35.88′ West longitude).

(i) You may take fish, other than rainbow/steelhead trout, at any time. If you take rainbow/steelhead trout incidentally in subsistence fisheries, you may retain them for subsistence purposes.

(ii) A subsistence fishing permit is required to take salmon, trout, and char; except a permit is not necessary to take salmon by snagging (by handline or rod and reel), using a spear, bow and arrow, or capturing by bare hand.

(iii) You may not take fish by net in freshwaters of Russell Creek and Trout Creek drainages.

(iv) You may take no more than 250 salmon annually for subsistence purposes within the Alaska Peninsula Area. In the Russell Creek or Trout Creek drainages, for each household member listed on the permit, you may take no more than:

(A) King salmon:

(1) 20 inches or greater in length—2 fish daily;

(2) Less than 20 inches in length—10 fish daily.

(B) Salmon, other than king salmon:

(1) 20 inches or greater in length—5 fish daily;

(2) Less than 20 inches in length—10 fish daily.

* * * * *

(9) Kodiak Area. The Kodiak Area includes all waters of Alaska south of a line extending east from Cape Douglas (58°51.10′ North latitude), west of 150° West longitude, north of 55°30.00′ North latitude, and north and east of a line extending 135° southeast for 3 miles from a point near Kilokak Rocks at 57°10.34′ North latitude, 156°20.22′ West longitude (the longitude of the southern entrance of Imuya Bay), then due south.

(i) You may take fish other than salmon, rainbow/steelhead trout, char, bottomfish, or herring at any time unless restricted by the terms of a subsistence fishing permit. If you take rainbow/steelhead trout incidentally in other subsistence net fisheries, you may retain them for subsistence purposes.

(ii) You may take salmon for subsistence purposes 24 hours a day from January 1 through December 31, with the following exceptions:

(A) From June 1 through September 15, you may not use salmon seine vessels to take subsistence salmon for 24 hours before or during, and for 24 hours after, any State open commercial salmon fishing period. The use of skiffs from any type of vessel is allowed.

(B) From June 1 through September 15, you may use purse seine vessels to take salmon only with gillnets, and you may have no other type of salmon gear on board the vessel.

(iii) You may subsistence fish for salmon with rod and reel only in the following locations:

(A) Womens Bay—All waters inside a line from the tip of the Nyman Peninsula (57°43.23′ North latitude, 152°31.51′ West longitude), to the northeastern tip of Mary's Island (57°42.40′ North latitude, 152°32.00′ West longitude), to the southeastern shore of Womens Bay at 57°41.95′ North latitude, 152°31.50′ West longitude.

(1) King salmon: bag and possession limit of two fish; no size limit; no annual limit.

(2) Salmon, other than king salmon, that are:

(i) 20 inches or greater in length; bag and possession limit of five fish, of which only two may be coho salmon and only two may be sockeye salmon.

(ii) Less than 20 inches in length; bag and possession limit of 10 fish.

(iii) From September 16 through December 31, the bag and possession limit for coho salmon, 20 inches or greater in length, is one fish.

(B) Buskin River marine waters—All waters inside of a line running from a marker on the bluff north of the mouth of the Buskin River at approximately 57°45.80′ North latitude, 152°28.38′ West longitude, to a point offshore at 57°45.35′ North latitude, 152°28.15′ West longitude, to a marker located onshore south of the river mouth at approximately 57°45.15′ North latitude, 152°28.65′ West longitude.

(C) In Afognak Bay north and west of a line from the tip of Last Point to the tip of River Mouth Point.

(iv) You must have a subsistence fishing permit for taking salmon, trout, and char for subsistence purposes. You must have a subsistence fishing permit for taking herring and bottomfish for subsistence purposes during the State commercial herring sac roe season from April 15 through June 30.

(v) The annual limit for a subsistence salmon fishing permit holder is as follows:

(A) In the road-accessible Zone (Northeastern Kodiak Island), east of the line from Crag Point south to the westernmost point of Saltery Cove, including the inland waters of Spruce, Woody, and Long Islands, and the Federal marine waters of and around Womens Bay, 25 salmon for the permit holder plus an additional 25 salmon for each member of the same household whose names are listed on the permit; an additional permit may be obtained upon request.

(B) In the remainder of the Kodiak Area not described in paragraphs (e)(9)(iii)(A) and (e)(9)(v)(A) of this section, there is no annual harvest limit for a subsistence salmon fishing permit holder.

(vi) You must record on your subsistence permit the number of subsistence fish taken. You must record all harvested fish prior to leaving the fishing site and must return the permit by the due date marked on the permit.

(vii) You may take fish other than salmon by gear listed in this part unless restricted under the terms of a subsistence fishing permit.

(viii) You may take salmon only by gillnet, rod and reel, or seine.

(ix) You must be physically present at the net when the net is being fished.

* * * * *

Crystal Leonetti,
Director, Office of Subsistence Management, U.S. Department of the Interior.
Kristin Sleeper,
Deputy Under Secretary—Natural Resources and Environment, U.S. Department of Agriculture.

[FR Doc. 2025-13516 Filed 7-17-25; 8:45 am]

BILLING CODE 3411-15-P; 4333-15-P